DEPARTMENT OF COMMERCE

National Oceanic and Atmospheric Administration

50 CFR Parts 223 and 224

RIN 0648-XA619

Endangered and Threatened Species; 5-Year Reviews for 5 Evolutionarily Significant Units of Pacific Salmon and 1 Distinct Population Segment of Steelhead in California

AGENCY: National Marine Fisheries Service (NMFS), National Oceanic and Atmospheric Administration (NOAA), Commerce.

ACTION: Notice of availability of 5-year reviews.

SUMMARY: We, the National Marine Fisheries Service (NMFS) Southwest Region, announce the availability of 5-year reviews for five ESUs of Pacific salmon (Oncorhynchus sp.) and one DPS of steelhead (Oncorhynchus mykiss) in California, as required by the ESA. After reviewing the best available scientific and commercial data, our 5-year reviews indicate that these species should remain listed as determined in 2005 and 2006, respectively. Our reviews recommend that the southward extension of boundaries for California Coastal Chinook salmon and Central California Coast coho salmon should be considered. Our 5-year review also recommends that six hatchery stocks should be removed from the California Coastal Chinook salmon ESU because those hatchery programs have been terminated.

ADDRESSES: Additional information about the 5-year review process, including copies of the 5-year review reports, may be obtained by visiting the NMFS Southwest Regional Office Web site at http://swr.nmfs.noaa.gov/ or by writing to us at: NMFS Southwest Region, 501 W. Ocean Blvd., Suite 4200, Long Beach, CA 90802; Attn: Craig Wingert.

FOR FURTHER INFORMATION CONTACT: Craig Wingert at the above address or at (562) 980-4021.

SUPPLEMENTARY INFORMATION:

Background

Under the ESA, a list of endangered and threatened wildlife and plant species must be maintained. The list is published at 50 CFR 17.11 (for animals) and 17.12 (for plants). Section 4(c)(2)(A) of the ESA requires that NMFS conduct a review of listed species under its jurisdiction at least once every 5 years (“5-year reviews”). Pursuant to section 4(c)(2)(B) of the ESA, we determine whether any species should be delisted and removed from the list, reclassified from endangered to threatened, or reclassified from threatened to endangered on the basis of such reviews. In conducting 5-year reviews, we consider the best scientific and commercial data, including new information that has become available since the last listing determination or most recent status review of a species.

On March 18, 2010, NMFS announced the initiation of 5-year reviews for listed Pacific salmon ESUs and steelhead DPSs in California, Oregon, Washington, and Idaho (75 FR 13082). Both ESUs and DPSs are treated as “species” under the ESA and we use the term “species” to refer to both in the remainder of this notice. In the March 18, 2010 announcement, we requested new information regarding the biological status of these ESUs and DPSs and the factors that affect them from the public, concerned governmental agencies, Tribes, the scientific community, environmental entities, and other interested parties.

This notice of availability addresses our completed 5-year reviews for: (1) Southern Oregon/Northern California coho salmon; (2) California Coastal Chinook salmon; (3) Central California Coast coho salmon; (4) Sacramento River winter-run Chinook salmon; (5) Central Valley spring-run Chinook salmon; and (6) Central Valley steelhead. The results of 5-year reviews for the other ESUs and DPSs discussed in the March 18, 2010 notice of initiation will be announced in forthcoming notices from the NMFS Southwest and Northwest Regions, respectively.

We used a two-step process to complete the reviews. First, we asked scientists from our Southwest Fisheries Science Center to collect and analyze new information about each species' viability. To evaluate each species' viability, our scientists applied the agency's Viable Salmonid Population (VSP) framework, which relies on evaluating four key population parameters (abundance, productivity, spatial structure, and diversity). Using this framework, they compiled and evaluated all new relevant information on these four parameters and then updated the overall viability status of each species. They also considered new genetic and biogeographic information related to each species' freshwater and estuarine geographic boundaries. At the end of this process, the Center prepared a report detailing the results and conclusions from their analyses.

Fishery biologists from the Southwest Region and its field offices completed the second step in the review process. These biologists reviewed new information on the five ESA 4(a)(1) factors considered when determining if a species should be listed as threatened or endangered, including: (1) The present or threatened destruction, modification, or curtailment of its habitat or range; (2) overutilization for commercial, recreational, scientific, or educational purposes; (3) disease or predation; (4) inadequacy of existing regulatory mechanisms; and, (5) other natural or man-made factors affecting its continued existence. They also evaluated new information on hatchery programs associated with each species to inform an updated assessment about whether specific hatchery programs should be considered part of the species that were evaluated. In doing so, they applied our Policy Addressing the Role of Artificially Propagated Pacific Salmon and Steelhead in Listing Determinations under the ESA (70 FR 37204). The 5-year review reports prepared by the Southwest Region, the Southwest Science Center's updated status assessment, and additional information concerning these species are available on the Southwest Region's Web site: http://swr.nmfs.noaa.gov/.

With regard to the salmon and steelhead species subject to this notice of availability, we evaluated information that has become available on the species since they were previously reviewed in 2005 (70 FR 37160) and 2006 (71 FR 834), respectively. After considering the best available information, our 5-year reviews recommend that each of these species should remain listed as determined in 2005 and 2006. Our reviews also recommend that the southern boundaries of two species (California Coastal Chinook salmon and Central California Coast coho salmon ESUs) should be extended. Finally, our reviews also recommend that six hatchery stocks should be removed from the California Coastal Chinook salmon ESU based on information demonstrating the hatchery programs propagating these stocks have been terminated since the last status review.

In furtherance of these recommendations, we have already proposed to change the southern boundary of Central California Coast coho salmon (76 FR 6383). We will consider proposing the adjustment of the species boundary and hatchery status for California Coastal Chinook salmon in a separate rulemaking. We conclude that these 5-year reviews meet the requirements of the ESA.

Authority: 16 U.S.C. 1531 et seq.

Dated: August 8, 2011.
Therese Conant,
Deputy Chief, Endangered Species Division, Office of Protected Resources, National Marine Fisheries Service.

[FR Doc. 2011-20459 Filed 8-12-11; 8:45 am]

BILLING CODE 3510-22-P